INTERNATIONAL TRADE COMMISSION

[Investigation No. 337-TA-574]

In the Matter of Certain Equipment for Telecommunications or Data Communications Networks, Including Routers, Switches, and Hubs, and Components Thereof; Notice of Decision Not To Review an Initial Determination Granting Joint Motion for Termination of the Investigation as to Certain Respondents Based on a Settlement Agreement

AGENCY: U.S. International Trade Commission.

ACTION: Notice.

SUMMARY: Notice is hereby given that the U.S. International Trade Commission has determined not to review the presiding administrative law judge's (“ALJ”) initial determination (“ID”) (Order No. 27) granting the joint motion of complainant Telecordia Technologies, Inc. (“Telecordia”) and respondents Lucent Technologies, Inc., Alcatel U.S.A., Inc., and Alcatel S.A. to terminate the above captioned investigation with respect to those respondents based on a settlement agreement.

FOR FURTHER INFORMATION CONTACT: Eric Frahm, Office of the General Counsel, U.S. International Trade Commission, 500 E Street, SW., Washington, DC 20436, telephone (202) 205-3107. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: This investigation was instituted on June 16, 2006, based on a complaint filed by Telecordia. The complaint alleged violations of section 337 of the Tariff Act of 1930 (19 U.S.C. 1337) in the importation into the United States, the sale for importation, and the sale within the United States after importation of certain equipment for telecommunications or data communications networks, including routers, switches, and hubs, and components thereof, by reason of infringement of certain claims of U.S. Patent No. 4,893,306; U.S. Patent No. Re. 36,633 (“the '633 patent”); and U.S. Patent No. 4,835,763. The amended complaint named five respondents: Lucent Technologies, Inc. of Murray Hill, New Jersey, Alcatel S.A. of France, Alcatel USA, Inc. of Plano, Texas (collectively, “Lucent and Alcatel”); Cisco Systems, Inc. of San Jose, California; and PMC-Sierra, Inc. of Santa Clara, California. Only claims 11 and 33 of the '633 patent remain in the investigation.

On May 8, 2007, Telecordia and Lucent and Alcatel moved jointly to terminate the investigation with respect to Lucent and Alcatel, based on a settlement agreement. The Commission investigative attorney supported the motion.

On May 24, 2007, the ALJ issued an ID (Order No. 27) granting the joint motion to terminate the investigation with regard to Lucent and Alcatel. The ALJ found that the joint motion complied with the requirements of Commission Rule 210.21(b)(1) and that there was no evidence that the requested termination of the investigation will prejudice the public interest. Accordingly, the ALJ terminated the investigation as to Lucent and Alcatel. No petitions for review of the ID were filed. The Commission has determined not to review the ID.

The authority for the Commission's determination is contained in section 337 of the Tariff Act of 1930, as amended (19 U.S.C. 1337), and in section 210.42 of the Commission's Rules of Practice and Procedure (19 CFR 210.42).

By order of the Commission.
Issued: June 15, 2007.
Marilyn R. Abbott,
Secretary to the Commission.

[FR Doc. E7-11940 Filed 6-19-07; 8:45 am]

BILLING CODE 7020-02-P